DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

PRT-049772

Applicant: Henry Doorly Zoo, Omaha, Nebraska

The applicant requests a permit to import three female and three male Parma wallabies (Macropus parma) from a non-native population on an island in New Zealand, where it is considered to be a pest species, for the purpose of enhancement of the survival of the species.

PRT-051207

Applicant: Gail A. Sanders, Prescott, WI

The applicant requests a permit to import the sport-hunted trophy of one male bontebok (Damaliscus pygargus dorcas) culled from a captive herd maintained under the management program of the Republic of South Africa, for the purpose of enhancement of the survival of the species.

PRT-051210

Applicant: Donald G. Sebesta, Othello, WA

The applicant requests a permit to import the sport-hunted trophy of one male bontebok (Damaliscus pygargus dorcas) culled from a captive herd maintained under the management program of the Republic of South Africa, for the purpose of enhancement of the survival of the species.

PRT-051213

Applicant: Thomas L. Martinetto, Shorewood, MN

The applicant requests a permit to import the sport-hunted trophy of one male bontebok (Damaliscus pygargus dorcas) culled from a captive herd maintained under the management program of the Republic of South Africa, for the purpose of enhancement of the survival of the species.

PRT-045459

Applicant: Center for Environmental Research and Conservation, Columbia Univ., New York, NY

The applicant requests a permit to import biological tissue samples from Javan rhinoceros (Rhinoceros sondaicus), great Indian one-horned rhinoceros (Rhinoceros unicornis) and Sumatran rhinoceros (Dicerorhinus sumatrensis) from several countries in Asia for the purpose of scientific research on genetic markers for use in population analysis to enhance the survival of the species. This notification covers activities conducted by the applicant over a five-year period.

Marine Mammals and Endangered Species

The public is invited to comment on the following application for a permit to conduct certain activities with endangered marine mammals. The application was submitted to satisfy requirements of the Marine Mammal Protection Act of 1972, as amended (16 U.S.C. 1361 et seq.), the Endangered Species Act of 1973, as amended (16 U.S.C. 1531, et seq.), and the regulations governing marine mammals (50 CFR part 18) and endangered species (50 CFR part 17).

PRT-049136

Applicant: Xavier University, Cincinnati, OH

Permit Type: Take for Scientific Research.

Name and Number of Animals: West Indian Manatee, Trichechus manatus, 2.

Summary of Activity To Be Authorized: The applicant requests a permit to conduct research associated with sound recognition on one captive-held animal and one captive-born animal, currently housed at the Cincinnati Zoo, Cincinnati, for the purpose of scientific research.

Source of Marine Mammals: Captive held and captive born.

Period of Activity: Up to 5 years if issued.

Concurrent with the publication of this notice in the Federal Register, the Division of Management Authority is forwarding copies of the above application to the Marine Mammal Commission and the Committee of Scientific Advisors for their review.

The public is invited to comment on the following application(s) for a permit to conduct certain activities with marine mammals. The application(s) was submitted to satisfy requirements of the Marine Mammal Protection Act of 1972, as amended (16 U.S.C. 1361 et seq.) and the regulations governing marine mammals (50 CFR part 18).

PRT-051276

Applicant: Trevor Davis, Rye, NY

The applicant requests a permit to import a polar bear (Ursus maritimus) sport hunted from the Norwegian Bay polar bear population in Canada for personal use.

Written data, comments, or requests for copies of these complete applications or requests for a public hearing on these applications should be submitted to the Director (address below) and must be received within 30 days of the date of this notice. Anyone requesting a hearing should give specific reasons why a hearing would be appropriate. The holding of such a hearing is at the discretion of the Director.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: December 21, 2001.
Monica Farris,
Senior Permit Biologist, Branch of Permits, Division of Management Authority.

[FR Doc. 02-706 Filed 1-10-02; 8:45 am]

BILLING CODE 4310-55-P